DEPARTMENT OF COMMERCE

International Trade Administration

[A-533-857, A-580-870, A-583-850, A-489-816, A-552-817]

Certain Oil Country Tubular Goods From India, the Republic of Korea, Taiwan, the Republic of Turkey, and the Socialist Republic of Vietnam: Notice of Correction to the Antidumping Duty Orders With Respect to Turkey and the Socialist Republic of Vietnam

AGENCY: Enforcement and Compliance, International Trade Administration, Department of Commerce.

DATES: Effective Date: October 3, 2014.

FOR FURTHER INFORMATION CONTACT: Emily Halle at (202) 482-0176 (India); Victoria Cho at (202) 482-5075 or Deborah Scott at (202) 482-2657 (Korea); Thomas Schauer at (202) 482-0410 (Taiwan); Catherine Cartsos at (202) 482-1757 (Turkey); or Fred Baker at (202) 482-2924 or Davina Friedmann at (202) 482-0698 (Vietnam), AD/CVD Operations, Enforcement and Compliance, International Trade Administration, U.S. Department of Commerce, 14th Street and Constitution Avenue NW., Washington, DC 20230.

SUPPLEMENTARY INFORMATION: On September 10, 2014, the Department of Commerce (the Department) published the antidumping duty orders on certain oil country tubular goods (OCTG) from India, the Republic of Korea (Korea), Taiwan, the Republic of Turkey (Turkey), and the Socialist Republic of Vietnam (Vietnam).¹ Footnote 1 of the Orders contains a list of the Federal Register citations for the Department's affirmative final determinations of sales at less than fair value (LTFV) in the investigations of OCTG from India, Korea, Taiwan, Turkey, and Vietnam. Incorrect page numbers were cited for the final determinations of sales at LTFV in the investigations of OCTG from Turkey and Vietnam. This notice provides the citations for these two notices with the correct page numbers. The correct citations are: Certain Oil Country Tubular Goods From the Republic of Turkey: Final Determination of Sales at Less Than Fair Value and Affirmative Final Determination of Critical Circumstances, in Part, 79 FR 41971 (July 18, 2014) and Certain Oil Country Tubular Goods From the Socialist Republic of Vietnam: Final Determination of Sales at Less Than Fair Value and Final Affirmative Determination of Critical Circumstances, 79 FR 41973 (July 18, 2014).

¹ See Certain Oil Country Tubular Goods From India, the Republic of Korea, Taiwan, the Republic of Turkey, and the Socialist Republic of Vietnam: Antidumping Duty Orders; and Certain Oil Country Tubular Goods From the Socialist Republic of Vietnam: Amended Final Determination of Sales at Less Than Fair Value, 79 FR 53691 (September 10, 2014) (Orders).

This notice serves as a correction and is published in accordance with section 777(i) of the Tariff Act of 1930 as amended.

Dated: September 25, 2014.
Paul Piquado,
Assistant Secretary for Enforcement and Compliance.

[FR Doc. 2014-23666 Filed 10-2-14; 8:45 am]

BILLING CODE 3510-DS-P